DEPARTMENT OF THE INTERIOR

National Park Service

[NPS-PWR-PWRO-20344; PPPWGOGAP0 PPMPSAS1Z.YP0000]

Draft Environmental Impact Report and Environmental Impact Statement for Vista Grande Drainage Basin Improvement Project, Golden Gate National Recreation Area, San Francisco and San Mateo Counties, California

AGENCY: National Park Service, Interior.

ACTION: Notice of availability.

SUMMARY: The National Park Service (NPS), in cooperation with the City of Daly City (Daly City), has prepared a joint Draft Environmental Impact Report and Environmental Impact Statement (DEIR/EIS) for the Vista Grande Drainage Basin Project (Project). The NPS is the lead agency for environmental review under NEPA, and Daly City is the lead agency for environmental review under the California Environmental Quality Act (CEQA). Daly City is proposing the Project to address storm-related flooding in the Vista Grande Drainage Basin, while providing the additional benefit of augmenting the level of Lake Merced. The Project would also improve recreational access and reduce litter transfer and deposition along the beach below Fort Funston and maximize the use of existing rights-of-way, easements, and infrastructure to minimize construction-related costs, habitat disturbance, and disruption to recreational users. Daly City is seeking a Special Use Permit from the NPS for construction activities proposed at Fort Funston and update to an existing easement to accommodate the proposed structures within Fort Funston and to clarify the rights and obligations of the parties to the easement.

DATES: All comments must be postmarked or transmitted not later than 60 days from the date of publication in the Federal Register of the Environmental Protection Agency's (EPA) notice of filing and release of the DEIR/EIS.

FOR FURTHER INFORMATION CONTACT: Please contact Steve Ortega at the Golden Gate National Recreation Area Planning Division at (415) 561-4955 or goga_planning@nps.gov.

SUPPLEMENTARY INFORMATION: This process has been conducted pursuant to the National Environmental Policy Act of 1969 (42 U.S.C. 4321 et seq.) and the regulations promulgated by the Council on Environmental Quality (40 CFR part 1502.9). The purpose and need for the Project is to alleviate flooding in the Vista Grande Drainage Basin and Canal and provide a sustainable source of water for management of Lake Merced water levels and quality, and to ensure that the portion of the Project within federally managed lands, if authorized, is constructed, operated, and maintained in a manner that is consistent with the protection and enhancement of resources, values, and uses of lands and waters under federal jurisdiction. This purpose and need is driven by the following factors:

(1) The Vista Grande storm drain system drains the northwestern portion of Daly City and an unincorporated portion of San Mateo County—areas originally within the watershed of Lake Merced. In the 1890s, the Vista Grande Canal and Tunnel were built to divert stormwater away from the lake to an outlet at the Pacific Ocean, below what is now Fort Funston. The existing Canal and Tunnel do not have adequate hydraulic capacity to convey storm flows, and this periodically causes backing up of Tunnel flows into the Canal, and flooding during peak storm events in adjacent low-lying residential areas and roads. Such flooding and Canal overtopping events cause property damage, bank erosion, traffic nuisances, public safety issues, and may have adverse impacts to Lake Merced water quality.

(2) Urban development has significantly reduced Lake Merced's original estimated watershed size. As urban development advanced in the area, surface runoff was diverted away from Lake Merced. Consequently, the southern portion of the original watershed (Daly City), including what is now the Vista Grande Drainage Basin, and the eastern portion of the original watershed (San Francisco) were diverted from flowing into the Lake. Operation of the Project would capture a portion of the existing Basin stormwater and authorized non-storm runoff that is currently conveyed to the Pacific Ocean and beneficially re-use over the long-term it to augment water levels in Lake Merced.

(3) The existing Daly City Ocean Outlet structure juts out from the cliff approximately 90 feet across the beach below Fort Funston, impeding recreational access, particularly during high tides. The Project presents an opportunity to improve public access across the beach.

(4) The width of the existing Tunnel easement is undetermined. Legal easement issues associated with a potential new tunnel alignment and with proposed improvements at the beach would be evaluated for consistency with the goals of protection and enhancement of resources, values, and uses of lands and waters under federal jurisdiction.

Accordingly, NPS's objectives for the Project include the following: (1) Avoid, minimize, or mitigate environmental impacts to Golden Gate National Recreation Area (GGNRA) natural and cultural resources; (2) during construction, ensure the health and safety of park visitors and staff, maintain access to and through Fort Funston, and minimize impacts to the visitor experience; (3) permanently improve public access along the beach; and (4) minimize impacts on park assets and sustain or restore all park assets (e.g., facilities, features, grounds) to pre-construction or better conditions.

Range of Alternatives Considered: The DEIR/EIS documents several preliminary engineering and water supply options considered and dismissed from full analysis, and describes and analyzes the following four alternatives:

No Project/No Action Alternative: No physical component of the proposed Project would be constructed and none of the proposed operational changes to stormwater routing or Lake Merced water management would be made. The NPS would not grant the Special Use Permit or amend the existing easement, and no construction could occur within NPS-managed lands. Annual Canal sediment removal activities would continue, as well as as-needed maintenance activities. Because Canal and Tunnel capacity would not be improved, occasional flooding of the Canal and associated flooding of John Muir Drive into Lake Merced and in local neighborhoods would continue. This alternative serves as the environmental baseline from which potential effects of the “action” alternatives were compared.

Proposed Project: The Project as proposed by Daly City would consist of the following: (1) Improvements within the Vista Grande Basin storm drain system upstream of the Vista Grande Canal; (2) Partial replacement of the existing Vista Grande Canal to incorporate a gross solid screening device, an approximately 2.6-acre constructed treatment wetland, and diversion and discharge structures to route some stormwater (and authorized non-stormwater) flows from the Vista Grande Canal to Lake Merced and to allow lake water to be used for summer treatment wetland maintenance; (3) Modification of the existing effluent gravity pipeline so that it may be used year round to convey treated effluent from the nearby North San Mateo County Sanitation District Wastewater Treatment Plant to the existing outlet and diffuser by gravity, and abandoning the force main pipeline; (4) Modification of the existing lake overflow structure to include an adjustable weir and siphon that allows water from the lake to flow into the Canal and Tunnel; (5) Replacement of the existing Vista Grande Tunnel to expand its hydraulic capacity and extend its operating lifetime and replacement of the Lake Merced Portal to the Tunnel; and (6) Replacement of the existing Ocean Outlet structure and a portion of the existing 33-inch submarine outfall pipeline that crosses the beach at Fort Funston.

Tunnel Alignment Alternative: The Tunnel Alignment Alternative would include the construction of a replacement tunnel south of the existing Tunnel. The new tunnel would run from a new east portal at the Canal to a new or rehabilitated Ocean Outlet structure at Fort Funston. The Tunnel would run beneath the Olympic Club, Highway 35, and the GGNRA lands. This alternative could be paired with either the proposed Canal improvements or the Canal Configuration Alternative.

Canal Configuration Alternative: This alternative would not construct the box culvert replacing the first 1,500 feet of the Canal; rather, the diversion structure described for the proposed Project would be relocated to the southern (upstream) end of the Canal. The box culvert under John Muir Drive also would be relocated and would cross under John Muir Drive close to the southern end of Impound Lake. The design of the diversion structure, box culvert under John Muir Drive, and Lake Merced Outlet would be approximately the same as for the proposed Project, but located at the upstream (southern) end of the Canal. The diversion structure would replace the first approximately 350 feet of the Canal, and the rest of the Canal would be unchanged except as needed for temporary construction access to the Lake Merced Tunnel Portal. Under the Canal Configuration Alternative, only one wetland cell of approximately 1.7 acres would be constructed. This alternative could be paired with either the proposed Tunnel improvements or the Tunnel Alignment Alternative.

Public Involvement: The Notice of Intent (NOI) to prepare the DEIR/EIS was published in the Federal Register on May 8, 2013 (78 FR 26807). Daly City also issued a joint NOI/Notice of Preparation (NOP) to prepare the DEIR/EIS on February 28, 2013. On March 4, 2013, the NPS sent an electronic mail (email) message to 1,317 recipients, inviting them to an open house featuring the Vista Grande Drainage Basin Improvements and other projects within the GGNRA. The email message provided a link to Daly City's Vista Grande Project Web site, where interested parties could access the NOI/NOP. The NPS held an open house on March 19, 2013, at the General's Residence in Fort Mason. Several projects and topics were covered at the open house, including the Vista Grande Project. Daly City staff and consultants attended the open house and spoke with attendees about the Project. On March 28, 2013, Daly City held a public scoping meeting to educate members of the public about the Project and to solicit comments on the scope of the DEIR/EIS. The scoping comment period for the NOI published in the Federal Register ended on June 7, 2013. A scoping report summarizing the outcomes of the scoping process, including comments received, and which includes copies of all comment letters received during the scoping period, is included as Appendix B of the DEIR/EIS. Comments from these meetings and letters, as well from additional stakeholder and agency outreach meetings and subsequent internal planning workshops, were used to further refine the alternatives and identify the key topics to be addressed in the DEIR/EIS.

Copies of and/or internet links to the DEIR/EIS will be circulated to congressional delegations, state and local elected officials, federal and state agencies, tribes, organizations, local businesses, and public libraries. Printed copies (in limited quantity) and CDs will be supplied in response to email, phone, or mail requests. Printed copies will be available at public libraries in San Francisco and San Mateo County.

How to Comment: The public comment period begins upon the lead agencies' issuance of public notice of DEIR/EIS availability, including through the NPS publication of this Notice of Availability (NOA) for the DEIR/EIS in the Federal Register. The public comment period will end 60 days from the date of the EPA's publication in the Federal Register of the notice of filing and release of the DEIR/EIS; the NPS will notify all entities on the project mailing list, and public announcements about the DEIR/EIS review period will be posted on the project Web site (http://parkplanning.nps.gov/Vista_Grande) and distributed via local and regional press media. Written comments may be transmitted electronically through the project Web site (noted above). If preferred, comments may be mailed to the General Superintendent, GGNRA, Attn: Vista Grande Drainage Basin Improvement Project DEIR/EIS, Fort Mason, Building 201, San Francisco, CA 94123.

Before including your address, phone number, email address, or other personal identifying information in your comment, you should be aware that your entire comment—including your personal identifying information—may be made publicly available at any time. While you can ask us in your comment to withhold your personal identifying information from public review, we cannot guarantee that we will be able to do so.

Public comments received during the comment period will be recorded and categorized in order for the lead agencies to prepare responses, which then will be incorporated into the Final EIR/EIS. Where responses to comments require important changes to the EIR/EIS, the body of the text may be revised. Comments received on the cultural resources section of the EIR/EIS will also be considered during the separate, but coordinated process of compliance with § 106 of the National Historic Preservation Act.

Decision Process: All comments received on the DEIR/EIS will be duly considered in preparing the Final EIR/EIS, which is expected to be prepared in mid-2016 (availability will be announced in the Federal Register, as well as through regional and local press media and park Web site postings). A Record of Decision will be prepared not sooner than 30 days after release of the Final EIR/EIS. Because this is a delegated EIS, the NPS official responsible for approval of the project is the Regional Director, Pacific West Region. The official responsible for project implementation is the Superintendent, Golden Gate National Recreation Area.

Dated: February 16, 2016.
Martha J. Lee,
Acting Regional Director, Pacific West Region.

[FR Doc. 2016-10172 Filed 4-28-16; 8:45 am]

BILLING CODE 4312-FF-P